ENVIRONMENTAL PROTECTION AGENCY

[ER-FRL-8999-4]

Environmental Impacts Statements; Notice of Availability

AGENCY: Office of Federal Activities, EPA.

General Information (202) 564-1399 or http://www.epa.gov/compliance/nepa/.

Weekly receipt of Environmental Impact Statements

Filed 09/26/2011 Through 09/30/2011

Pursuant to 40 CFR 1506.9.

Notice

Section 309(a) of the Clean Air Act requires that EPA make public its comments on EISs issued by other Federal agencies. EPA's comment letters on EIS are available at: http://www.epa.gov/compliance/nepa/eisdata.html.

EIS No. 20110332, Draft Supplement, USFS, MT, Montanore Project, Additional Information on Alternatives, Proposes to Construct a Copper and Silver Underground Mine and Associated Facilities, Including a New Transmission Line, Plan-of-Operation Permit, Kootenai National Forest, Sanders County, MT, Comment Period Ends: 11/21/2011, Contact: Lynn Hagarty 406-283-7642.

EIS No. 20110333, Final EIS, GSA, 00, International Falls Land Port of Entry Improvements Study, Proposes To Replace the Existing Land Port of Entry, Minnesota along the U.S. and Canada Border, Review Period Ends: 11/07/2011, Contact: Donald R. Melcher 312-353-1237.

EIS No. 20110334, Draft EIS, NPS, 00, Blue Ridge Parkway General Management Plan, Implementation, Virginia and North Carolina, Comment Period Ends: 12/06/2011, Contact: Chris Church 303-969-2276.

EIS No. 20110335, Final EIS, USACE, 00, Fargo-Moorhead Metropolitan Area Flood Risk Management, To Document the Analysis of Alternatives Developed To Reduce Flood Risk, Red River of the North Basin, ND and MN, Review Period Ends: 11/07/2011, Contact: Aaron Snyder 651-290-5489.

EIS No. 20110336, Draft Supplement, USFS, 00, Rogue River-Siskiyou National Forest, Motorized Vehicle Use, Supplement the Existing 2009 FEIS To Add Complete Information and Analysis, Implementation, Douglas, Klamath, Jackson, Curry, Coos and Josephine Counties, OR and Del Norte and Siskiyou Counties, CA, Comment Period Ends: 11/21/2011, Contact: David Krantz 541-618-2200.

EIS No. 20110337, Final EIS, BIA, CA, Manzanita Casino—Manzanita Band of Kumeyaay Indians Fee-To-Trust and Casino Facility/Hotel Project, Construction and Operation, City of Calexico, Imperial County, CA, Review Period Ends: 11/07/2011, Contact: John Rydzik 916-978-6051.

EIS No. 20110338, Final EIS, NPS, WV, New River Gorge National River Project, General Management Plan, Implementation, Fayette, Raleigh and Summers Counties, WV, Review Period Ends: 11/07/2011, Contact: Deborah Darden 304-465-6509.

EIS No. 20110339, Draft Supplement, USN, WA, Trident Support Facilities Explosives Handling Wharf (EHW-2), New Information, Construction and Operating, Naval Base Kitsap Bangor, Silverdale, WA, Comment Period Ends: 11/21/2011, Contact: Christine Stevenson 360-396-0080.

EIS No. 20110340, Draft EIS, BLM, CA, Walker Ridge Wind Energy Generation Facility, Construction, Operation and Decommissioning of a Wind Energy Generation Facility of up to 70 megawatts, Lake and Colusa Counties, CA, Comment Period Ends: 11/21/2011, Contact: Joseph Vieira 719-852-6213.

Amended Notices

EIS No. 20110265, Draft EIS, ARS, ID, U.S. Sheep Experiment Station Grazing and Associated Activities Project 2010, To Develop Integrated Methods for Increasing Production Efficiency of Sheep, Dubois, ID, Comment Period Ends: 11/21/2011, Contact: Sue Wingate 603-569-3114.

EIS No. 20110323, Draft Supplement, USFS, MI, Huron-Manistee National Forests, Supplement the 2006 FEIS Analysis and To Correct the Deficiencies that the Meister Panel Identified, Land and Resource Management Plan, Implementation, Several Counties, MI, Comment Period Ends: 12/23/2011, Contact: Ken Arbogast 231-775-2421 Revision to FR Notice 09/23/2011: Correction to Comment Period from 12/21/2011 to 12/23/2011.

EIS No. 20110327, Draft EIS, BR, 00, Klamath Facilities Removal Project, Advance Restoration of the Salmonid Fisheries Klamath Basin, Siskiyou County, CA and Klamath County, OR, Comment Period Ends: 11/29/2011, Contact: Elizabeth Vasqueuz 916-978-5055 Revision to FR Notice 09/30/2011: Correction to Comment Period from 11/21/2011 to 11/29/2011.

EIS No. 20110328, Draft EIS, NPS, CA, Drakes Bay Oyster Company (DBOC) Special Use Permit (SUP) for the Period of 10 Years for its Shellfish Operation, which Consists of Commercial Production, Harvesting, Processing, and Sale of Shellfish at Point Reyes National Seashore, CA, Comment Period Ends: 11/29/2011, Contact: Cicely Muldoon 415-464-5101 Revision to FR Notice 9/30/2011: Correction to Comment Period from 11/21/2011 to 11/29/2011.

Dated: October 4, 2011.
Cliff Rader,
Acting Director, NEPA Compliance Division, Office of Federal Activities.

[FR Doc. 2011-26049 Filed 10-6-11; 8:45 am]

BILLING CODE 6560-50-P